NUCLEAR WASTE TECHNICAL REVIEW BOARD

Board Meeting

June 24, 2015—The U.S. Nuclear Waste Technical Review Board will meet to discuss DOE activities related to transporting spent nuclear fuel.

Pursuant to its authority under section 5051 of Public Law 100-203, Nuclear Waste Policy Amendments Act of 1987, the U.S. Nuclear Waste Technical Review Board will meet in Golden, Colorado, on June 24, 2015, to review U.S. Department of Energy (DOE) activities related to transporting spent nuclear fuel (SNF). The main focus of the meeting will be on DOE's efforts to prepare for the transportation of SNF from commercial nuclear power plants to a potential interim storage site and/or to a geologic repository.

The Nuclear Waste Policy Amendments Act (NWPAA) of 1987 charges the Board with conducting an ongoing and independent evaluation of the technical and scientific validity of DOE activities related to implementing the Nuclear Waste Policy Act of 1982.

The meeting will be held at the Denver Marriott West, 1717 Denver West Boulevard, Golden, Colorado 80401; Tel. 303-279-9100. A block of rooms has been reserved for meeting attendees at a group rate. Reservations may be made by phone: (800) 228-9290 or online: http://www.marriott.com/meeting-event-hotels/group-corporate-travel/groupCorp.mi?resLinkData=US%20Nuclear%20Waste%20Technical%20Review%20Board%20Meeting%5Edenwe%60NWTNWTA%60187%60USD%60false%606/22/15%606/26/15%606/1/15&app=resvlink&stop_mobi=yes. Reservations must be made by Monday, June 1, 2015, to ensure receiving the meeting rate.

The meeting will begin at 8:00 a.m. on Wednesday, June 24, 2015, and is scheduled to adjourn at 5:00 p.m. Among the topics that will be discussed at the meeting are DOE's plans for the transportation of SNF from commercial nuclear power plants to a potential interim storage site and/or to a geologic repository. Specifically, DOE will discuss research and development efforts and new equipment designs. Other perspectives on the transportation of SNF will be presented by representatives from the Nuclear Regulatory Commission, an international nuclear utility, and stakeholder groups. A detailed meeting agenda will be available on the Board's Web site: www.nwtrb.gov approximately one week before the meeting. The agenda may also be requested by email or telephone at that time from Davonya Barnes of the Board's staff.

The meeting will be open to the public, and opportunities for public comment will be provided before the lunch break and at the end of the day. Those wanting to speak are encouraged to sign the “Public Comment Register” at the check-in table. Depending on the number of people who sign up to speak, it may be necessary to set a time limit on individual remarks. However, written comments of any length may be submitted, and all comments received in writing will be included in the record of the meeting posted on the Board's Web site. The meeting will also be webcast at: https://www.webcaster4.com/Webcast/Page/909/8356.

Transcripts of the meeting will be available on the Board's Web site no later than July 13, 2015. Copies will also be available by electronic transmission, on computer disk, or in paper format, and may be requested from Davonya Barnes, at that time.

The Board was established in the NWPAA as an independent federal agency in the Executive Branch to review the technical and scientific validity of DOE activities related to implementing the NWPA and to provide objective expert advice to Congress and the Secretary of Energy on technical and scientific issues related to SNF and high-level radioactive waste management and disposal. Board members are experts in their fields and are appointed to the Board by the President from a list of candidates submitted by the National Academy of Sciences. The Board reports its findings, conclusions, and recommendations to Congress and the Secretary of Energy. All Board reports, correspondence, congressional testimony, and meeting transcripts and related materials are posted on the Board's Web site.

For information on the meeting agenda, contact Daniel Ogg: ogg@nwtrb.gov or Karyn Severson: severson@nwtrb.gov. For information on lodging or logistics, contact Linda Coultry: coultry@nwtrb.gov. To request copies of the meeting agenda or the transcript, contact Davonya Barnes: barnes@nwtrb.gov. All four can be reached by mail at 2300 Clarendon Boulevard, Suite 1300, Arlington, VA 22201-3367; by telephone at 703-235-4473; or by fax at 703-235-4495.

Dated: May 20, 2015.
Nigel Mote,
Executive Director, U.S. Nuclear Waste Technical Review Board.

[FR Doc. 2015-12618 Filed 5-22-15; 8:45 am]

BILLING CODE P